DEPARTMENT OF TRANSPORTATION

Federal Motor Carrier Safety Administration

[Docket No. FMCSA-2019-0023]

Agency Information Collection Activities; Revision of an Approved Information Collection: Hours of Service (HOS) of Drivers Regulations

AGENCY: FMCSA, DOT.

ACTION: Notice and request for comments.

SUMMARY: In accordance with the Paperwork Reduction Act of 1995, FMCSA announces its plan to submit the Information Collection Request (ICR) described below to the Office of Management and Budget (OMB) for its review and approval and invites public comment. The FMCSA requests approval to renew an ICR titled, “Hours of Service (HOS) of Drivers Regulations.” The HOS regulations require a motor carrier to install and require each of its drivers subject to the record of duty status (RODS) rule to use an electronic logging device (ELD) to report the driver's RODS. The RODS is critical to FMCSA's safety mission because it helps enforcement officials determine if CMV drivers are complying with the HOS rules limiting driver on-duty and driving time and requiring periodic off-duty time.

DATES: We must receive your comments on or before May 7, 2019.

ADDRESSES: You may submit comments identified by Federal Docket Management System (FDMS) Docket Number FMCSA-2019-0023 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, 20590-0001.

• Hand Delivery or Courier: West Building, Ground Floor, Room W12-140, 1200 New Jersey Avenue SE, Washington, DC, between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Ms. Pearlie Robinson, FMCSA Driver and Carrier Operations Division Department of Transportation, FMCSA, West Building 6th Floor, 1200 New Jersey Avenue SE, Washington, DC 20590. Telephone: 202-366-4225. Email: MCPSD@dot.gov.

SUPPLEMENTARY INFORMATION:

Background

On December 16, 2015, the final rule titled “Electronic Logging Devices and Hours of Service Supporting Documents” was published and became effective February 16, 2016 (80 FR 78292). The FMCSA established minimum performance and design standards for ELDs and the mandatory use of these devices by drivers who are subject to the HOS reporting requirements. Drivers currently using compliant automatic on-board recorders (AOBRDs) have until December 16, 2019, to replace the devices with ELDs. As a condition of receiving certain federal grants, States agree to adopt and enforce the Federal Motor Carrier Safety Regulations, including the HOS rules, as State law. As a result, State enforcement inspectors use the RODS and supporting documents to determine whether CMV drivers are complying with the HOS rules. In addition, FMCSA uses the RODS during on-site and offsite investigations of motor carriers. And, Federal and State courts rely upon the RODS as evidence of driver and motor carrier violations of the HOS regulations. This information collection supports the DOT's Strategic Goal of Safety because the information helps the Agency ensure the safe operation of CMVs in interstate commerce on our Nation's highways.

Renewal of This IC

The current IC burden estimate of the HOS rules, approved by OMB on June 13, 2016, is 99.46 million hours. The expiration date of the current ICR is June 30, 2019. Through this ICR, FMCSA requests a revision of the paperwork burden of 2126-0001. The Agency requests a reduction in the burden hours from 99.46 million hours to 41.03 million hours. The reduction is the result of amendments of the HOS rules in which the burden estimate for most drivers and motor carriers is based on compliance with the ELD final rule during the three-year ICR period. Two types of information are collected under this IC: (1) Drivers' RODS commonly referred as a logbook, and (2) supporting documents, such as gasoline and toll receipts, that motor carriers use to verify accuracy of RODS and document expense deductions for income tax filing purposes. The use of ELDs reduces the driver's time to input duty status from 6.5 minutes to 2 minutes.

Title: Hours of Service (HOS) of Drivers Regulations.

OMB Control Number: 2126-0001.

Type of Request: Revision of an information collection.

Respondents: Motor Carriers of Property and Passengers, Drivers of CMVs.

Estimated Number of Respondents: 3.42 million CMV drivers; 540,000 Motor Carriers.

Estimated Time per Response: CMV drivers using technology: 2 minutes. Motor Carriers: 2 minutes.

Expiration Date: June 30, 2019.

Frequency of Response: Drivers: 240 days per year; Motor carriers 240 days per year.

Estimated Total Annual Burden: 41.03 million hours.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the information collected. The Agency will summarize or include your comments in the request for OMB's clearance of this ICR.

Issued under the authority of 49 CFR 1.87 on:

Dated: March 1, 2019.
Kelly Regal,
Associate Administrator for Office of Research and Information Technology.

[FR Doc. 2019-04190 Filed 3-7-19; 8:45 am]

BILLING CODE 4910-EX-P